DEPARTMENT OF DEFENSE

Department of the Army

Army Science Board Open Meeting Notice

AGENCY: Department of the Army, DoD.

ACTION: Notice of open meeting.

SUMMARY: Pursuant to the Federal Advisory Committee Act of 1972 (5 U.S.C., Appendix, as amended), the Sunshine in the Government Act of 1976 (U.S.C. 552b, as amended) and 41 Code of the Federal Regulations (CFR 102-3.140 through 160, the Department of the Army announces the following committee meeting:

Name of Committee: Army Science Board (ASB) Summer Voting Session.

Date: July 16, 2014.

Time: 0900-1200.

Location: Antlers Hilton, Four South Cascade, Colorado Springs, CO 80903-1685.

Purpose of Meeting: The purpose of the meeting is for ASB members to review, deliberate, and vote on the findings and recommendations presented in the Fiscal Year (FY) 2014 studies.

Agenda: The board will present findings and recommendations for deliberation and vote on the following three FY 2014 studies:

Air and Missile Defense Electronic Warfare (EW) Assessment—This study will assist the Army by conducting a comprehensive assessment of the EW posture of the Army's Air and Missile Defense systems and their ability to operate in an advanced EW environment.

Decisive Army Strategic and Expeditionary Maneuver—This study will identify challenges in 2025 that effect the Army's ability to conduct strategic and expeditionary maneuver; explore options in joint air- and sea-basing, commercial capabilities and partnering opportunities to improve the Army's ability to maneuver; and identify technologies and other innovations that could improve the Army's strategic and expeditionary maneuver capabilities.

Talent Management and the Next Training Revolution—This study will develop a concept of talent management that the Army should use to describe individuals and teams through 2030; examine current technologies and trends employed in talent management, to include recruiting, training, and retention; and develop a roadmap for the employment of promising talent management systems, associated technologies, and best practices, taking into consideration the unique nature of military service.

Committee's Designated Federal Officer (DFO)/Point of Contact: COL William McLagan at (703) 545-8651 or email: william.m.mclagan.mil@mail.mil or Ms. Carolyn German at (703) 545-8654 or email: carolyn.t.german.civ@mail.mil.

SUPPLEMENTARY INFORMATION: (Filing Written Statement): Pursuant to 41 CFR 102-3.140d, the Committee is not obligated to allow the public to speak; however, interested persons may submit a written statement for consideration by the Subcommittees. Individuals submitting a written statement must submit their statement to the Designated Federal Officer (DFO) at the address listed (see FOR FURTHER INFORMATION CONTACT). Written statements not received at least 10 calendar days prior to the meeting may not be considered by the Board prior to its scheduled meeting.

The DFO will review all timely submissions with the Board's executive committee and ensure they are provided to the specific study members as necessary before, during, or after the meeting. After reviewing written comments, the study chairs and the DFO may choose to invite the submitter of the comments to orally present their issue during a future open meeting.

The DFO, in consultation with the executive committee, may allot a specific amount of time for members of the public to present their issues for discussion.

FOR FURTHER INFORMATION CONTACT: Army Science Board, Designated Federal Officer, 2530 Crystal Drive, Suite 7098, Arlington,VA 22202.

Brenda S. Bowen,
Army Federal Register Liaison Officer.

[FR Doc. 2014-13549 Filed 6-10-14; 8:45 am]

BILLING CODE 3710-08-P